ENVIRONMENTAL PROTECTION AGENCY

[FRL-9104-3]

Proposed Issuance of a General NPDES Permit for Small Suction Dredging—Permit Number IDG-37-0000

AGENCY: Environmental Protection Agency.

ACTION: Proposed issuance of a general permit.

SUMMARY: EPA proposes to issue a National Pollutant Discharge Elimination System (NPDES) general permit to placer mining operations in Idaho for small suction dredges (intake nozzle size of 5 inches in diameter or less and with equipment rated at 15 horsepower or less). When issued, the permit will establish effluent limitations, standards, prohibitions and other conditions on discharges from covered facilities. These conditions are based on existing national effluent guidelines, the State of Idaho's Water Quality Standards and material contained in the administrative record. A description of the basis for the conditions and requirements of the proposed general permit is given in the Fact Sheet. This is also notice of the draft section 401 Certification provided by the State of Idaho.

DATES: Interested persons may submit comments on the proposed issuance of the general permit to EPA, Region 10 at the address below. Comments must be postmarked by March 8, 2010. Public Informational Workshops are scheduled in Grangeville, Boise, Salmon and Idaho Falls. The Grangeville workshop will be held on February 22, 2010, from 4 pm until 7 pm. The Boise workshop will be held on February 23, 2010, from 2 pm until 5 pm. The Salmon workshop will be held February 24, 2010, from 4 pm until 7 pm. The Idaho Falls workshop will be held February 25 from 3 pm until 6 pm.

ADDRESSES: Comments on the proposed general permit should be sent to Director, Office of Water and Watersheds; USEPA Region 10; 1200 Sixth Avenue Suite 900, OWW-130; Seattle, Washington 98101. Comments may also be submitted by fax to (206) 553-0165 or electronically to godsey.cindi@epa.gov. The Grangeville workshop will be held at the Nez Perce National Forest Service Office, 104 Airport Road. The Boise workshop will be held at Idaho Department of Environmental Quality Officer, Conference Room C, 1410 N. Hilton. The Salmon workshop will be held at the Salmon-Challis National Forest Service Office, 1206 S. Challis Street. The Idaho Falls workshop will be held at the Idaho Department of Fish and Game, 4279 Commerce Circle.

FOR FURTHER INFORMATION CONTACT: Copies of the proposed general permit and Fact Sheet are available upon request. Requests may be made to Audrey Washington at (206) 553-0523 or to Cindi Godsey at (907) 271-6561. Requests may also be electronically mailed to: washington.audrey@epa.gov or godsey.cindi@epa.gov. These documents may also be found on the EPA Region 10 Web site at http://yosemite.epa.gov/R10/water.nsf/NPDES+Permits/Permits+Homepage then click on “Current public comment opportunities.”

SUPPLEMENTARY INFORMATION: EXECUTIVE ORDER 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this general permit, as issued, will not have a significant economic impact on a substantial number of small entities.

Dated: January 11, 2010.
Christine Psyk,
Associate Director, Office of Water & Watersheds, Region 10.

[FR Doc. 2010-830 Filed 1-21-10; 8:45 am]

BILLING CODE 6560-50-P